DEPARTMENT OF VETERANS AFFAIRS

[OMB Control No. 2900-0018]

Agency Information Collection-Application for Accreditation as Service Organization Representative Activity Under OMB Review

AGENCY: Office of the General Counsel, Department of Veterans Affairs.

ACTION: Notice.

SUMMARY: In compliance with the Paperwork Reduction Act (PRA) of 1995 (44 U.S.C. 3501-3521), this notice announces that the Office of the General Counsel (OGC), Department of Veterans Affairs, has submitted the collection of information abstracted below to the Office of Management and Budget (OMB) for review and comment. The PRA submission describes the nature of the information collection and its expected cost and burden; it includes the actual data collection instrument.

DATES: Comments must be submitted on or before August 24, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0018” in any correspondence.

FOR FURTHER INFORMATION CONTACT: Dana Raffaelli, Office of the General Counsel (022O), Department of Veterans Affairs, 810 Vermont Avenue NW., Washington, DC 20420 or email to dana.raffaelli2@va.gov. Please refer to “OMB Control No. 2900-0018” in any correspondence.

SUPPLEMENTARY INFORMATION: Title: Application for Accreditation as Service Organization Representative, VA Form 21; Accreditation Cancellation Information.

OMB Control Number: 2900-0018.

Type of Review: Revision of a currently approved collection and modification to the collection.

Abstract: Service organizations are required to file an application with VA to establish eligibility for accreditation for representatives of that organization to represent benefit claimants before VA. VA Form 21 is completed by service organizations to establish accreditation for representatives, recertify the qualifications of accredited representatives.

Organizations requesting cancellation of a representative's accreditation based on misconduct or incompetence or resignation to avoid cancellation of accreditation based upon misconduct or incompetence, are required to inform VA of the specific reason for the cancellation request. VA will use the information collected to determine whether service organizations representatives continue to meet regulatory eligibility requirements to ensure claimants have qualified representatives to assist in the preparation, presentation and prosecution of their claims for benefits. VA is modifying the collection to include an optional request to permit the organization to provide an email address and phone number in which the representative may be reached. VA believes that the additional contact information pertaining to the organization will be helpful in that it provides an additional means of communication between VA and the organization as well as provides an additional way that Veterans and their family may contact the representative. The organization may choose to provide a general phone number and email address for the organization, e.g., tampa@vso.com, or the representative's individual email address through the organization and direct phone number, e.g., johnsmith@vso.com.VA does not anticipate the modification request will result in an additional burden. VA believes that the organizations already have the information available to them, and adding that information to the form should not take additional time. This is supported by the fact that many organizations are already providing the additional contact information. Finally, this request will be optional.

An agency may not conduct or sponsor, and a person is not required to respond to a collection of information unless it displays a currently valid OMB control number. The Federal Register Notice with a 60-day comment period soliciting comments on this collection of information was published on May 20, 2015, at 80 FR 29158.

Affected Public: Not-for profit institutions.

Estimated Annual Burden: 782 hours.

Estimated Average Burden per Respondent: 15 minutes for new applicants, 10 minutes for recertification, and 30 minutes for accreditation cancellation information responses.

Frequency of Response: On occasion.

Estimated Number of Respondents: 3,157 (2962 new applicants, 170 recertification, and 25 accreditation cancellation information responses).

By direction of the Secretary.
Kathleen M. Manwell,
Program Analyst, VA Privacy Service, Office of Privacy and Records Management, Department of Veterans Affairs.

[FR Doc. 2015-18163 Filed 7-23-15; 8:45 am]

BILLING CODE 8320-01-P